DEPARTMENT OF THE INTERIOR

National Park Service

Notice of Availability

AGENCY: National Park Service, Interior.

ACTION: Notice of availability of the Final General Management Plan and Final Environmental Impact Statement for Grand Portage National Monument, Minnesota.

SUMMARY: Pursuant to section 102(2) of the National Environmental Policy Act of 1969, the National Park Service (NPS) announces the availability of the final general management plan and final environmental impact statement (FGMP/FEIS) for Grand Portage National Monument (Monument), Minnesota. This notice is being furnished as required by National Environmental Policy Act Regulations 40 CFR 1501.7.

DATES: The required no-action period on this GMP/FEIS will expire 30 days after the Environmental Protection Agency has published a notice of availability of the FEIS in the Federal Register.

ADDRESSES: Copies of the FEIS/FGMP are available from the Superintendent, Grand Portage National Monument, 315 E. Broadway, P.O. Box 1326, Grand Marais, Minnesota, 55604. The phone number is: 218-387-2788.

SUPPLEMENTARY INFORMATION: The purpose of the general management plan is to set forth the basic management philosophy for the Monument and to provide the strategies for addressing issues and achieving identified management objectives. The FGMP/FEIS describes and analyzes the environmental impacts of a proposed action and three action alternatives for the future management direction of the Monument. A no action alternative is also evaluated.

The draft GMP/EIS for the Monument was released to the public on January 22, 2002. The public comment period ended March 22, 2002. Few substantive comments were received on the draft document; consequently, only minor changes were made to the alternatives and environmental consequences.

The responsible official is Mr. Ernest Quintana, Midwest Regional Director, National Park Service.

Dated: August 21, 2003.
Alan M. Hutchings,
Acting Regional Director, Midwest Region.

[FR Doc. 03-25530 Filed 10-7-03; 8:45 am]

BILLING CODE 4312-99-P